DEPARTMENT OF ENERGY

Federal Energy Regulatory Commission

Combined Notice of Filings #1

Take notice that the Commission received the following electric rate filings:

Docket Numbers: ER14-480-001.

Applicants: California Independent System Operator Corporation.

Description: 2014-04-21 Compliance Filing in Docket No. ER14-480 to be effective 5/1/2014.

Filed Date: 4/21/14.

Accession Number: 20140421-5221.

Comments Due: 5 p.m. ET 5/12/14.

Docket Numbers: ER14-1320-002.

Applicants: Midcontinent Independent System Operator, Inc.

Description: 2014-04-22_SA 2632 Northeast Power-ITC-AECI T-T 2nd Amendment to be effective 1/29/2014.

Filed Date: 4/22/14.

Accession Number: 20140422-5127.

Comments Due: 5 p.m. ET 5/13/14.

Docket Numbers: ER14-1729-000.

Applicants: California Independent System Operator Corporation.

Description: 2012-04-22 Errata to Attachment C to NVE EIMIA Filing to be effective N/A.

Filed Date: 4/22/14.

Accession Number: 20140422-5180.

Comments Due: 5 p.m. ET 5/13/14.

Docket Numbers: ER14-1750-000.

Applicants: Consolidated Edison Company of New York, New York Independent System Operator, Inc.

Description: Con Edison NYPA restated OM Agreement No. 2013 to be effective 4/23/2014.

Filed Date: 4/22/14.

Accession Number: 20140422-5264.

Comments Due: 5 p.m. ET 5/13/14.

Docket Numbers: ER14-1754-000.

Applicants: Ameren Illinois Company.

Description: Meter Replacement Letter Agreement Between AIC, IMEA, and City of Casey to be effective 3/23/2014.

Filed Date: 4/22/14.

Accession Number: 20140422-5221.

Comments Due: 5 p.m. ET 5/13/14.

Docket Numbers: ER14-1755-000.

Applicants: Lykins Energy Solutions.

Description: MBR Application to be effective 5/23/201.

Filed Date: 4/23/14.

Accession Number: 20140423-5048.

Comments Due: 5 p.m. ET 5/14/14.

Docket Numbers: ER14-1756-000.

Applicants: Southern California Edison Company.

Description: GIA and Distribution Service Agreement with Aries Solar Holding, LLC to be effective 4/24/2014.

Filed Date: 4/23/14.

Accession Number: 20140423-5107.

Comments Due: 5 p.m. ET 5/14/14.

Docket Numbers: ER14-1757-000.

Applicants: ITC Midwest LLC.

Description: Filing of Amended and Restated Facilities and Operating Agreement to be effective 6/24/2014.

Filed Date: 4/23/14.

Accession Number: 20140423-5111.

Comments Due: 5 p.m. ET 5/14/14.

Docket Numbers: ER14-1758-000.

Applicants: Appalachian Power Company.

Description: Notice of Cancellation of Appalachian Power Company.

Filed Date: 4/23/14.

Accession Number: 20140423-5121.

Comments Due: 5 p.m. ET 5/14/14.

Docket Numbers: ER14-1759-000.

Applicants: Appalachian Power Company.

Description: Notice of Cancellation of Appalachian Power Company.

Filed Date: 4/23/14.

Accession Number: 20140423-5132.

Comments Due: 5 p.m. ET 5/14/14.

Docket Numbers: ER14-1760-000.

Applicants: Midcontinent Independent System Operator, Inc.

Description: 2014-04-23_SA 2659 Ameren-FutureGen Construction Agreement to be effective 4/18/2014 under ER14-1760 Filing Type: 10.

Filed Date: 4/23/14.

Accession Number: 20140423-5164.

Comments Due: 5 p.m. ET 5/14/14.

Take notice that the Commission received the following electric securities filings:

Docket Numbers: ES14-37-000.

Applicants: AEP Generating Company.

Description: Application Under Section 204 of the Federal Power Act for Authorization to Issue Securities of AEP Generating Company.

Filed Date: 4/22/14.

Accession Number: 20140422-5259.

Comments Due: 5 p.m. ET 5/13/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 23, 2014.
Nathaniel J. Davis, Sr.,
Deputy Secretary.

[FR Doc. 2014-09973 Filed 4-30-14; 8:45 am]

BILLING CODE 6717-01-P